DEPARTMENT OF JUSTICE

Notice of Lodging of Proposed Consent Decree Under the Clean Water Act

Notice is hereby given that on December 13, 2007, a Consent Decree in United States of America v. Merck & Co., Inc., Civil Action No. 07-cv-5239, was lodged with the United States District Court for the Eastern District of Pennsylvania.

The proposed consent decree with Merck & Co., Inc., (“Merck”) resolves the claims of the United States on behalf of EPA against Merck for injunctive relief and civil penalties under section 309 of the Clean Water Act (“CWA”), 33 U.S.C. 1319, in connection with the pharmaceutical and vaccine research and manufacturing facility located in West Point, Montgomery County, Pennsylvania. Pursuant to the consent decree, Merck will pay a total of $1,575,000 in penalties. Merck will pay a civil penalty of $750,000 to the United States, $750,000 to the Commonwealth, and $75,000 to the Pennsylvania Fish and Boat Commission. In addition, Merck has undertaken, and will continue to take, remedial measures at their facility to prevent further discharges. Finally, Merck has agreed to State Community Environmental Projects and Federal Supplemental Environmental Projects at a value in excess of $9 million.

The Department of Justice will receive for a period of thirty (30) days from the date of this publication comments relating to this proposed Consent Decree. Comments should be addressed to the Assistant Attorney General, Environment and Natural Resources Division, P.O. Box 7611, U.S. Department of Justice, Washington, DC 20044-7611, Attention: Nancy Flickinger (EES), and may be submitted by electronic mail to the following address: pubcomment-ees.enrd@usdj.gov. Comments should refer to United States of America v. Merck & Co., Inc., Civil Action No. 07-cv-5239 D.J. Ref. 90-5-1-1-09062.

The proposed Consent Decree may be examined at the Office of the United States Attorney for the Eastern District of Pennsylvania, 615 Chestnut Street, Suite 1250, Philadelphia, Pennsylvania 19106, and at U.S. EPA Region III's Office, 1650 Arch Street, Philadelphia, PA 19103. During the public comment period, the consent decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov.), fax no. (202) 514-0097, phone confirmation number (202) 514-1547. In requesting a copy from the Consent Decree Library, please enclose a check in the amount of $7.75 (25 cents per page reproduction cost for a full copy) payable to the U.S. Treasury.

Robert D. Brook,
Assistant Chief, Environmental Enforcement Section, Environment and Natural Resources Division.

[FR Doc. 07-6243 Filed 12-28-07; 8:45 am]

BILLING CODE 4410-15-M